ENVIRONMENTAL PROTECTION AGENCY

[FRL-7078-6]

Office of Research and Development; Board of Scientific Counselors Subcommittee Review of National Health and Environmental Effects Research Laboratory

AGENCY: Environmental Protection Agency.

ACTION: Notice of review.

SUMMARY: Pursuant to the Federal Advisory Committee Act, Public Law 92-463, as amended (5 U.S.C., App. 2) notification is hereby given that the Environmental Protection Agency, Office of Research and Development (ORD), Board of Scientific Counselors (BOSC) Subcommittee will conduct a meeting to review the activities of the National Health and Environmental Effects Research Laboratory (NHEERL) of the ORD.

DATES: The review will be held on October 30-31, 2001. On Tuesday, October 30, 2001 the review will begin at 9 a.m., and it will recess at 5 p.m. Also, on Tuesday, October 30, a Poster Session with researchers will begin at 7 p.m. and end at 8:30 p.m. On Wednesday, October 31, the review will begin at 9 a.m. and adjourn at 12 noon. All times noted are Eastern Time.

ADDRESSES: The review will be held at the U.S. EPA's Environmental Research Center (ERC), 86 T.W. Alexander Drive, Triangle Park, North Carolina.

SUPPLEMENTARY INFORMATION: Anyone desiring a draft agenda for the meeting/review may contact Carolyn Wheeler at (919) 541-2281. The meeting is open to the public. Members of the public wishing to make comments at the meeting should contact Shirley Hamilton, Designated Federal Officer, U.S. Environmental Protection Agency, Board of Scientific Counselors, Office of Research and Development (8701R), 1200 Pennsylvania Avenue, NW., Washington, DC 20460; or by telephone at (202) 564-6853. Each individual making comments will be limited to a presentation of no more than three minutes.

FOR FURTHER INFORMATION CONTACT: Shirley R. Hamilton, Designated Federal Officer, U.S. Environmental Protection Agency, Board of Scientific Counselors, Office of Research and Development (8701R), 1200 Pennsylvania Avenue, NW., Washington, DC 20460; (202) 564-6853.

Dated: October 4, 2001.
Peter W. Preuss,
Director, National Center for Environmental Research.

[FR Doc. 01-25585 Filed 10-10-01; 8:45 am]

BILLING CODE 6560-50-P